ELECTION ASSISTANCE COMMISSION

Sunshine Act Notice

AGENCY: United States Election Assistance Commission.

ACTION: Notice of public meeting (amended agenda).

DATE AND TIME: Thursday, July 19, 2007, 1 p.m.-4 p.m.

PLACE: The Charlotte Convention Center, Room 207D, 501 South College Street, Charlotte, NC 28202, (704) 339-6000.

AGENDA: In addition to considering the adoption of a draft EAC manual on Poll Worker Recruitment, Training and Retention, and a draft EAC manual on Recruiting College Poll Workers, and other administrative matters (notice published in the Federal Register on July 2, 2007), Commissioners will also consider a report to Congress on the expenditure of funds distributed under the Help America Vote Act.

This meeting will be open to the public.

FOR FURTHER INFORMATION CONTACT: Bryan Whitener, Telephone: (202) 566-3100.

Thomas R. Wilkey,
Executive Director, U.S. Election Assistance Commission.

[FR Doc. 07-3482 Filed 7-13-07; 11:10 am]

BILLING CODE 6820-KF-M